DEPARTMENT OF HEALTH AND HUMAN SERVICES

Centers for Disease Control and Prevention

[60Day-12-12OG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Science to Practice: Developing and Testing a Marketing Strategy for Preventing Alcohol-related Problems in College Communities—NEW—National Center for Injury Prevention and Control (NCIPC), Centers for Disease Control and Prevention (CDC).

Background and Brief Description

Each year, 1,700 college students die and more than 1.4 million are injured as a result of alcohol-related incidents. Additionally, about 25% of students report negative academic consequences due to alcohol (Engs et al., 1996; Presley et al., 1996a, 1996b; Wechsler et al., 2002). Despite the enormous public health burden of college-age alcohol misuse, there have been few rigorous evaluations of environmental strategies to address alcohol misuse in college settings. Environmental strategies typically involve implementing and enforcing policies that change the environments that influence alcohol-related behavior and subsequent harm. Further, studies show that the typical lag time between identifying effective interventions and obtaining widespread adoption can stretch to well over a decade. Given the number of students harmed, there is an urgent need to develop more efficient and timely strategies for moving effective science to widespread practice. This project will address this exact issue by systematically developing a marketing strategy for The Safer University Intervention, a comprehensive, community-based environmental prevention program with proven efficacy in reducing intoxication and alcohol-impaired driving among college students.

The CDC proposes an on-line information collection, that will take place during the spring semester of the 2012-2013 academic year, and will constitute a follow-up to a marketing effort targeting a national sample of 4-year colleges and universities. The follow-up comprises a survey of key informants from the sampled institutions and key leaders of the surrounding community.

The CDC will use the information gathered from the on-line survey to: (1) Develop and revise customized marketing and program materials targeting potential campus and community stakeholders; and (2) inform strategies for the marketing plan.

The respondents targeted for the on-line survey include: College Administrators and staff, campus and municipal police; as well as selected community leaders. A total of up to 160 Institutions of Higher Education (IHE) will be contacted with a maximum of 12 participants per IHE. A maximum of 1,800 respondents will be contacted by email and asked to forward the email and participate in the on-line survey. Questions of a sensitive nature will not be asked. The amount of time required for a respondent to take part in the survey is estimated to be less than 1 hour. We estimate a total maximum of 1,800 burden hours.

There are no costs to respondents other than their time.

Estimated Annualized Burden Hours
Type of respondent | Form | Number of respondents | Number of responses per respondent | Average burden per respondent (in hours) | Total burden hours
College Administrators and staff | On-line survey | 600 | 1 | 1 | 600
Campus and Municipal Police officers | On-line survey | 600 | 1 | 1 | 600
Community Leaders | On-line survey | 600 | 1 | 1 | 600
Total Burden Hours |  |  |  |  | 1,800

Kimberly S. Lane,
Deputy Director, Office of Scientific Integrity, Office of the Associate Director for Science, Office of the Director, Centers for Disease Control and Prevention.

[FR Doc. 2012-17984 Filed 7-23-12; 8:45 am]

BILLING CODE 4163-18-P